DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of OMB approval of information collection requirements.

SUMMARY: The Occupational Safety and Health Administration announces that the Office of Management and Budget (OMB) extended its approval for a number of information collection requirements found in sections of 29 CFR parts 1910 and 1926, and other regulations and requirements. OSHA sought approval of these requirements under the Paperwork Reduction Act of 1995 (PRA-95), and, as required by that Act, is announcing the approval numbers and expiration dates for these requirements.

DATES: This notice is effective June 30, 2014.

FOR FURTHER INFORMATION CONTACT: Theda Kenney or Todd Owen, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew their approvals for various information collection (paperwork) requirements in its safety and health standards pertaining to general industry and the construction industry (i.e., 29 CFR parts 1910 and 1926), procedures for conflict of interest, OSHA's student data forms, regulations containing procedures for handling of retaliation complaints, and requirements for the Occupational Safety and Health Administration Training Institute Education Centers Program and Outreach Training Program. In these Federal Register announcements, the Agency provided 60-day comment periods for the public to respond to OSHA's burden hour and cost estimates.

In accord with PRA-95 (44 U.S.C. 3501-3520), OMB renewed its approval for these information collection requirements, and assigned OMB control numbers to these requirements. The table below provides the following information for each of these information collection requirements approved by OMB: The title of the Federal Register notice; the Federal Register reference (date, volume, and leading page); OMB's Control Number; and the new expiration date.

Title of the information collection request | Date of Federal Register Publication, Federal Register reference, and OSHA Docket No. | OMB Control No. | Expiration date
Access to Employee Exposure and Medical Records (29 CFR 1910.1020) | 09/09/2013, 78 FR 55114, Docket No. OSHA-2009-0043 | 1218-0065 | 02/28/2017
Aerial Lifts in Construction (29 CFR 1926.453) | 10/30/2013, 78 FR 64982, Docket No. OSHA-2009-0045 | 1218-0216 | 02/28/2017
Asbestos in General Industry (29 CFR 1910.1001) | 06/07/2013, 78 FR 34406, Docket No. OSHA-2010-0018 | 1218-0133 | 02/28/2017
Conflict of Interest (COI) and Disclosure Form (OSHA 7) | 07/16/2013, 78 FR 42549, Docket No. OSHA-2009-0042 | 1218-0255 | 02/28/2017
Construction Fall Protection Systems Criteria and Practices (29 CFR 1925.502), and Training Requirements (29 CFR 1926.503) | 09/27/2013, 78 FR 59725, Docket No. OSHA-2010-0008 | 1218-0197 | 02/28/2017
Cranes and Derricks in Construction (29 CFR part 1926, subpart CC) | 09/13/2013, 78 FR 56742, Docket No. OSHA-2013-0021 | 1218-0261 | 02/28/2017
Crawler, Locomotive, and Truck Cranes (29 CFR 1910.180) | 06/05/2013, 78 FR 33860, Docket No. OSHA-2010-0015 | 1218-0221 | 02/28/2017
Derricks (29 CFR 1910.181) | 04/09/2013, 78 FR 21157, Docket No. 2010-0016 | 1218-0222 | 10/31/2016
Dip Tanks (Dipping and Coating Operations—Additional Requirements for Special Operations) (29 CFR 1910.126(g)(4)) | 04/09/2013, 78 FR 21159, Docket No. OSHA-2010-0020 | 1218-0237 | 10/31/2016
Formaldehyde (29 CFR 1910.1048) | 08/23/2013, 78 FR 52567, Docket No. OSHA-2009-0041 | 1218-0145 | 02/28/2017
Nationally Recognized Testing Laboratory (NRTL) (Definition, and Requirements) (29 CFR 1910.7) | 10/02/2013, 78 FR 60898, Docket No. OSHA-2010-0007 | 1218-0147 | 02/28/2017
Noise Exposure (29 CFR 1910.95) | 07/30/2013, 78 FR 45981, Docket No. OSHA-2010-0017 | 1218-0048 | 02/28/2017
Presence Sensing Device Initiation (PSDI) (29 CFR 1910.217(h)) | 04/09/2013, 78 FR 21155, Docket No. OSHA-2010-0009 | 1218-0143 | 04/30/2017
Regulations Containing Procedures for Handling of Retaliation Complaints | 01/17/2013, 78 FR 3918, Docket No. OSHA-2012-0026 | 1218-0236 | 07/31/2016
Requirements for the Occupational Safety and Health Administration Training Institute Education Centers Program and Outreach Training Program | 08/05/2013, 78 FR 47419, Docket No. OSHA-2009-0022 | 1218-0262 | 02/28/2017
Student Data Form (OSHA Form 182) | 08/23/2013, 78 FR 52565, Docket No. OSHA-2010-0022 | 1218-0172 | 02/28/2017
Welding, Cutting, and Brazing (29 CFR part 1910, subpart Q) | 08/28/2013, 78 FR 53159, Docket No. OSHA-2010-0037 | 1218-0207 | 02/28/2017

In accord with 5 CFR 1320.5(b), an agency cannot conduct, sponsor, or require a response to a collection of information unless the collection displays a valid OMB control number and the agency informs respondents that they need not respond to the collection of information unless it displays a valid OMB control number.

Authority and Signature

David Michaels, Ph.D., MPH, Assistant Secretary of Labor for Occupational Safety and Health, directed the preparation of this notice. The authority for this notice is 44 U.S.C. 3506 et seq. and Secretary of Labor's Order No. 1-2012 (77 FR 3912).

Signed at Washington, DC, on June 25, 2014.
David Michaels,
Assistant Secretary of Labor for Occupational Safety and Health.

[FR Doc. 2014-15236 Filed 6-27-14; 8:45 am]

BILLING CODE 4510-26-P